FEDERAL MARITIME COMMISSION

Agency Information Collection Activities: Submission for OMB Review; Comment Request

AGENCY: Federal Maritime Commission.

ACTION: Final notice of submission for OMB review.

SUMMARY: In accordance with the Paperwork Reduction Act of 1995, the Federal Maritime Commission (FMC or Commission) hereby gives notice that it has submitted to the Office of Management and Budget a request for an reinstatement of the existing collection requirements under 46 CFR part 535—Ocean Common Carrier and Marine Terminal Operator Agreements Subject to the Shipping Act of 1984.

DATES: Comments must be submitted on February 10, 2020.

ADDRESSES: Comments should be addressed to:

Office of Information and Regulatory Affairs, Office of Management and Budget, Attention: Desk Officer for Federal Maritime Commission, 725 17th Street NW, Washington, DC 20503, OIRA_Submission@OMB.EOP.GOV, Fax (202) 395-5806.

and to:

Karen V. Gregory, Managing Director, Office of the Managing Director, Federal Maritime Commission, 800 North Capitol Street NW, Washington, DC 20573, Telephone: (202) 523-5800, omd@fmc.gov.

Please reference the information collection's title and OMB number in your comments.

FOR FURTHER INFORMATION CONTACT: Copies of the submission(s) may be obtained by contacting Donna Lee on 202-523-5800 or email: omd@fmc.gov.

SUPPLEMENTARY INFORMATION:

Request for Comments

Pursuant to the Paperwork Reduction Act of 1995 (44 U.S.C. 3501 et seq.), the Commission invites the general public and other Federal agencies to comment on the proposed information collection. On May 31, 2019, the Commission published a notice and request for comment in the Federal Register (84 FR 25275) regarding the agency's request for reinstatement from OMB for information collections as required by the Paperwork Reduction Act of 1995. The Commission received no comments on the request for reinstatement of OMB approval. The Commission has submitted the described information collection to OMB for approval.

In response to this notice, comments and suggestions should address one or more of the following points: (1) The necessity and utility of the proposed information collection for the proper performance of the agency's functions; (2) the accuracy of the estimated burden; (3) ways to enhance the quality, utility, and clarity of the information to be collected; and (4) the use of automated collection techniques or other forms of information technology to minimize the information collection burden.

Information Collection Open for Comment

Title: 46 CFR part 535—Ocean Common Carrier and Marine Terminal Operator Agreements Subject to the Shipping Act of 1984.

OMB Approval Number: 3072-0045 (Expired March 31, 2017).

Abstract: Section 4 of the Shipping Act of 1984, 46 U.S.C. 40301(a)-(c), identifies certain agreements by or among ocean common carriers (carriers) and marine terminal operators (MTOs) that fall within the jurisdiction of that Act. Section 5 of the Act, 46 U.S.C. 40302, requires that carriers and MTOs file those agreements with the Federal Maritime Commission. Section 6 of the Act, 46 U.S.C. 40304, 40306, and 41307(b)-(d), specifies the Commission actions that may be taken with respect to filed agreements, including requiring the submission of additional information. Section 15 of the Act, 46 U.S.C. 40104, authorizes the Commission to require that carriers and MTOs, among other persons, file periodic or special reports. Requests for additional information and the filing of periodic or special reports are meant to assist the Commission in fulfilling its statutory mandate of overseeing the activities of the ocean transportation industry. These reports are necessary so that the Commission can monitor agreement parties' activities to determine how or if their activities will have an impact on competition.

Type of Request: There are no changes to this information collection, and it is being submitted for reinstatement purposes only.

Needs and Uses: The Commission staff uses the information filed by agreement parties to monitor their activities as required by the Shipping Act of 1984. Under the general standard set forth in section 6(g) of the Act, 46 U.S.C. 41307(b)(1), the Commission must determine whether filed agreements are likely, by a reduction in competition, to produce an unreasonable reduction in transportation service or an unreasonable increase in transportation cost or to substantially lessen competition in the purchasing of certain covered services. If it is shown, based on information collected under this rule, that an agreement is likely to have the foregoing adverse effects, the Commission may bring suit in the U.S. District Court for the District of Columbia to enjoin the operation of that agreement. Other than an agreement filed under section 5 of the Act, the information collected may not be disclosed to the public except as may be relevant to an administrative or judicial proceeding, and disclosure to Congress.

Frequency: This information is collected generally on a quarterly basis or as required under the rules.

Type of Respondents: The types of respondents are ocean common carriers and MTOs subject to the Shipping Act of 1984.

Number of Annual Respondents: The Commission estimates a potential annual respondent universe of 334 entities.

Estimated Time per Response: The approximate range of person hours per response, including preparation and filing, depends on its complexity, presented by category below:

Agreements and amendments not requiring form FMC-150: 6-25 hours.

Agreements and amendments requiring form FMC-150: 17-137 hours.

Terminations of Agreements: .25-.5 hours.

Filing of Agreement meeting minutes: 2-5 hours.

Filing of Monitoring Reports:

VOCC Rate Discussion Agreements: 71-120 hours.

Alliance Agreements: 60-155 hours.

Other reporting agreements: 5-75 hours.

Total Annual Burden: The Commission estimates the total annual burden at 15,655 hours.

Rachel Dickon,
Secretary.

[FR Doc. 2020-00116 Filed 1-8-20; 8:45 am]

BILLING CODE 6731-AA-P